NATIONAL SCIENCE FOUNDATION

Advisory Committee for Geosciences; Notice of Meeting

In accordance with the Federal Advisory Committee Act (Pub. L. 92-463, as amended), the National Science Foundation announces the following meeting:

Name: Advisory Committee for Geosciences (1755).

Dates: April 13, 2011; 8:30 a.m.- 5 p.m., April 14, 2011; 8:30 a.m.-1:30 p.m.

Place: Stafford I, Room 1235, National Science Foundation, 4201 Wilson Blvd., Arlington, Virginia 22230.

Type of Meeting: Open.

Contact Person: Melissa Lane, National Science Foundation, Suite 705, 4201 Wilson Blvd., Arlington, Virginia 22230. Phone 703-292-8500.

Minutes: May be obtained from the contact person listed above.

Purpose of Meeting: To provide advice, recommendations, and oversight concerning support for geosciences.

Agenda

April 13, 2011

• Directorate activities and plans including discussion of FY 2012 NSF-Wide Investments.

• Topical Subcommittee Meetings.

• Meeting with the Director.

April 14, 2011

• Division Subcommittee Meetings.

• Divisional and Topical Subcommittee Reports.

• Action Items/Planning for Fall Meeting.

Dated: March 1, 2011.
Susanne Bolton,
Committee Management Officer.

[FR Doc. 2011-4876 Filed 3-3-11; 8:45 am]

BILLING CODE 7555-01-P